FARM CREDIT ADMINISTRATION

12 CFR Part 620

RIN 3052-AB94

Disclosure to Shareholders; Annual Report; Effective Date

AGENCY: Farm Credit Administration.

ACTION: Notice of effective date.

SUMMARY: The Farm Credit Administration (FCA) published a final rule under part 620 on March 12, 2001 (66 FR 14299). This final rule provides that a bank need not distribute its annual report to the shareholders of its related associations unless it experiences a “significant event.” The final rule also requires all associations to disclose, in a separate section of their annual report, specified information about their financial and supervisory relationship with their funding bank. This final rule benefits banks, associations, and their shareholders because it allows the banks and associations to share necessary information with shareholders at a reduced cost. In accordance with 12 U.S.C. 2252, the effective date of the final rule is 30 days from the date of publication in the Federal Register during which either or both Houses of Congress are in session. Based on the records of the sessions of Congress, the effective date of the regulations is April 27, 2001.

EFFECTIVE DATE: The regulation amending 12 CFR part 620 published on March 12, 2001 (66 FR 14299) is effective April 27, 2001.

FOR FURTHER INFORMATION CONTACT:

Tong-Ching Chang, Policy Analyst, Office of Policy and Analysis, Farm Credit Administration, McLean, VA 22102-5090, (703) 883-4498;

or

Alison C. Samarias, Attorney Advisor, Office of General Counsel, Farm Credit Administration, McLean, VA 22102-5090, (703) 883-4020, TDD (703) 883-4444.

(12 U.S.C. 2252(a)(9) and (10))
Dated: April 24, 2001.
Kelly Mikel Williams,
Secretary, Farm Credit Administration Board.

[FR Doc. 01-10556 Filed 4-26-01; 8:45 am]

BILLING CODE 6705-01-P